DEPARTMENT OF JUSTICE

[AAG/A Order No. 230-2001]

Privacy Act of 1974; System of Records

Pursuant to the provisions of the Privacy Act of 1974 (5 U.S.C. 552a), notice is given that the Department of Justice proposes to establish a new Department-wide system of records entitled “Correspondence Management systems (CMS) for the Department of Justice (DOJ),” DOJ/003. Most components of the Department maintain and operate their own correspondence tracking systems. There has been no change in the operation of component systems. Rather, this notice of a new system of records replaces most Privacy Act notices already published by components for existing systems, and it also provides notice for components that have not yet published a notice for such records. Because this is a Department-wide systems notice, it is broader than most correspondence tracking systems operated by individual components. The purpose of publishing this Department-wide notice is to increase administrative efficiency and to centralize and simplify for the public the process of obtaining information and making requests. This systems notice includes disclosure provisions that may not have been part of former systems notices. This systems notice does not supercede systems of records covered by separately-noticed systems that are not removed by this order.

Accordingly, this Department-wide system notice replaces, and the Department hereby removes, on the effective date of this notice, the following notices previously published by individual Department of Justice components:

Antitrust Division, “Congressional and White House Referral Correspondence Log File,” JUSTICE/ATR-002 (58 FR 6985, Feb. 3, 1993)

Civil Division, “Congressional and Citizen Correspondence File,” JUSTICE/CIV-007 (53 FR 4,507, Oct. 17, 1988)

Civil Rights Division, “Files on Correspondence Relating to Civil Rights Matters from Persons Outside the Department of Justice,” JUSTICE/CRT-008 (53 FR 40,513, Oct. 17, 1988)

Office of the Deputy Attorney General, “Executive Secretariat Correspondence Control System,” JUSTICE/DAG-012 (50 FR 42,614, Oct. 21, 1985)

Drug Enforcement Administration, “Congressional Correspondence File,” JUSTICE/DEA-004 (52 FR 47,207, Dec. 11, 1987)

Foreign Claims Settlement Commission, “Correspondence (General),” JUSTICE/FCSC-6 (64 FR 31,296, Jun. 10, 1999)

Foreign Claims Settlement Commission, “Correspondence (Inquiries Concerning Claims in Foreign Countries),” JUSTICE/FCSC-7 (64 FR 31,296, Jun. 10, 1999)

Immigration and Naturalization Service, “Immigration and Naturalization Service Index System,” JUSTICE/INS-001 Subsystem D, “Congressional Relations Correspondence Control Index,” and Subsystem P, “Correspondence Control and Task Tracking System,” (58 FR 51847, Oct. 5, 1993.)

Justice Management Division, “Office of General Counsel (OGC) Correspondence and Advice Tracking System (CATS),” JMD-011 (59 FR 46,661, Sept. 9, 1994)

Land and Natural Resources Division, “Congressional Correspondence File,” JUSTICE/LDN-002 (42 FR 53,351, Sept. 30, 1977)

Land and Natural Resources Division, “Citizens' Mail File,” JUSTICE/LDN-006 (45 FR 2214, Jan. 10, 1980)

Office of Legislative Affairs, “Congressional Committee Chairman Correspondence File,” JUSTICE/OLA-001 (52 FR 47,278, Dec. 11, 1987)

Office of Legislative Affairs, “Congressional Correspondence File,” JUSTICE/OLA-002 (52 FR 47,278, Dec. 11, 1987)

Office of Legislative Affairs, “Citizen Correspondence File,” JUSTICE/OLA-003 (52 FR 47,279, Dec. 11, 1987)

Office of Special Counsel for Immigration Related Unfair Employment Practices, “Files on Correspondence Relating to Immigration-Related, Unfair Employment Practices from Persons Outside the Department of Justice,” JUSTICE/OSC-002 (53 FR 40,532, Oct. 17, 1988)

Executive Office for U.S. Attorneys, “Citizen Correspondence Files,” JUSTICE/USA-004 (54 FR 42,089, Oct. 13, 1989)

In accordance with 5 U.S.C. 552a(e)(4) and (11), the public is given a 30-day period in which to comment; and the Office of Management and Budget (OMB), which has oversight responsibility under the Act, requires a 40-day period in which to conclude its review of the system. Therefore, please submit any comments by [30 days after publication in the Federal Register]. The public, OMB, and the Congress are invited to submit any comments to Mary E. Cahill, Management and Planning Staff, Justice Management Division, Department of Justice, Washington, DC, 20530 (Room 1400, National Place Building).

In accordance with 5 U.S.C. 552a(r), the Department has provided a report to OMB and the Congress.

Dated: May 15, 2001.
Janis A. Sposato,
Acting Assistant Attorney General for Administration.

Department of Justice—003

SYSTEM NAME:

Correspondence Management Systems (CMS) for the Department of Justice.

SYSTEM LOCATION:

U.S. Department of Justice, 950 Pennsylvania Ave., NW., Washington, DC 20530, and other Department of Justice offices throughout the country.

CATEGORIES OF INDIVIDUALS COVERED BY THE SYSTEM:

Individuals originating, receiving, or named in correspondence (including attachments) to or form the Department or whose correspondence is referred to the Department, or persons communicating electronically or by telephone with the Department regarding official business of the Department, including Members of Congress, other government officials, individuals, and their representatives; individuals originating, receiving, or named in internal memoranda (including attachments) within the Department, including DOJ employees, contractors, and individuals relating to investigators, policy decisions, or administrative matters of significance to the Department of Justice; in some instances, Department of Justice personnel assigned to handle such correspondence and other matters.

CATEGORIES OF RECORDS IN THE SYSTEM:

Correspondence identification (e.g., correspondence's name, address, title, organization, control number, date of correspondence, date received, subject); status of response within the Department; may include original correspondence, Department's response, office or staff member assigned to handle the matter, referral letters, name and identification of person referring the correspondence, copies of any enclosures, and related materials. Some internal memoranda, e-mail correspondence, and logs/notes of official telephone calls to/by Department staff are also tracked. Records may include case files, litigation materials, reports, or other goods on a given subject or individual. This material varies according to the wide scope of the responsibilities of the Department of Justice. Correspondence identification and tracking information, as well as some substantive information on these matters is maintained in automated database in electronic format and/or paper files. This system does not cover systems of records covered by separately-notices systems.

AUTHORITY FOR MAINTENANCE OF THE SYSTEM:

5 U.S.C. 301 and 44 U.S.C. 3101.

PURPOSE(S) OF THE SYSTEM:

The System controls and tracks correspondence received or originated by the Department or referred to the Department, and action taken by the Department in response to correspondence received, as well as some internal memoranda, action items, e-mail correspondence, and logs/notes of official telephone calls. It also serves as a reference source for inquiries and response thereto.

ROUTINE USES OF RECORDS MAINTAINED IN THE SYSTEM, INCLUDING CATEGORIES OF USERS AND THE PURPOSES OF SUCH USES:

Pursuant to subsection (b)(3) of the Privacy Act, information may be disclosed from this system as follows:

A. To the news media and the public pursuant to 28 CFR 50.2 unless it is determined that release of the specific information in the context of a particular case would constitute an unwarranted invasion of personal privacy.

B. To a Member of Congress or staff acting upon the Member's behalf when the Member or staff requests the information on behalf of an individual who is the subject of the record.

C. To the General Services Administration and National Archives and Records Administration in records management inspections conducted under the authority of 44 U.S.C. 2904 and 2906.

D. Where a record, either on its face or in conjunction with other information, indicates a violation or potential violation of law, to any civil or criminal law enforcement authority or other appropriate agency, whether federal, state, local, foreign, or tribal, charged with the responsibility of investigating or prosecuting such a violation or enforcing or implementing a statute, rule, regulation, or order.

E. In an appropriate proceeding before a court, grand jury, or administrative or regulatory body when records are determined by DOJ to be arguably relevant to the proceeding.

F. To an actual or potential party to litigation or the party's authorized representative for the purpose of negotiation or discussion on such matters as settlement, plea bargaining, or in informal discovery proceedings.

G. To a federal agency or entity that requires information relevant to a decision concerning the hiring, appointment, or retention of an employee, the issuance of a security clearance, the conduct of a security or suitability investigation, or pursuit of other appropriate personnel matter.

H. To a federal, state, local, or tribal agency or entity that requires information relevant to a decision concerning the lettering of a letter or permit, the issuance of a grant or benefit; or other need for the information in performance of official duties.

I. To contractors, grantees, experts, consultants, students, and others performing or working on a contract, service, grant, cooperative agreement, or other assignment for the Federal government, when necessary to accomplish an agency function related to this system of records.

J. To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

K. To the White House (the President, Vice President, their staffs, and other entities of the Executive Office of the President (EOP)) for Executive Branch coordination of activities which relate to or have an effect upon the carrying out of the constitutional, statutory, or other official or ceremonial duties of the President.

L. To such recipients and under such circumstances and procedures as are mandated by federal statute or treaty.

POLICIES AND PRACTICES FOR STORING, RETRIEVING, ACCESSING, RETAINING, AND DISPOSING OF RECORDS IN THE SYSTEM:

STORAGE:

Records are stored in electronic form and on paper.

RETRIEVABILITY:

Information can be retrieved by correspondence control number; name of individual; subject matter of topic; or in some cases, by other identifying search term employed.

SAFEGUARDS:

Information in these systems is safeguarded in accordance with applicable rules and policies, including the Department's automated systems security and access policies. Tax return information is safeguarded in accordance with 26 U.S.C. 6103. Classified information is appropriately stored in safes and in accordance with other applicable requirements. In general, records and technical equipment are maintained in buildings with restricted access. The required use of password protection identification features and other system protection methods also restrict access. Access is limited to those who have an official need for access to perform their official duties.

RETENTION AND DISPOSAL:

Records are retained and disposed of in accordance with individual component guidelines approved by the National Archives and Records Administration (SF 115s), and/or pursuant to General Records Schedule 14, or 23, item 8.

SYSTEM MANAGER(S) AND ADDRESS:

Deputy Assistant Attorney General, Human Resources/Administration, Justice Management Division, 950 Pennsylvania Ave., NW., Washington, DC 20530.

NOTIFICATION PROCEDURES:

Address inquiries to System Manager named above.

RECORD ACCESS PROCEDURES:

Requests for access must be in writing and should be addressed to the System Manager named above. The envelope and letter should be clearly marked “Privacy Act Access Request.” The request should include a general description of the records sought and must include the requester's full name, current address, and date and place of birth. The request must be signed and either notarized or submitted under penalty of perjury. Some information may be exempt from access provisions as described in the section entitled “Systems Exempted from Certain Provisions of the Act.” An individual who is the the subject of a record in this system may access those records that are not exempt from disclosure. A determination whether a record may be accessed will be made at the time a request is received.

CONTESTING RECORD PROCEDURES:

Individuals desiring to contest or amend information maintained in the system should direct their request to the System Manager listed above, stating clearly and concisely what information is being contested, the reasons for contesting it, and the proposed amendment to the information sought. Some information is not subject to amendment, such as tax return information. Some information may be exempt from contesting record procedures as described in the section entitled “Systems Exempted from Certain Provisions of the Act.” An individual who is the subject of a record in this system may amend those records that are not exempt. A determination whether a record may be amended will be made at the time a request is received.

RECORD SOURCE CATEGORIES:

Sources of information contained in these systems include individuals, state, local, tribal, and foreign government agencies as appropriate, the executive and legislative branches of the Federal Government, the Judiciary, and interested third parties. The source of the information on the control records contained in these systems is derived from incoming and outgoing correspondence and internal memoranda.

SYSTEMS EXEMPTED FROM CERTAIN PROVISIONS OF THE ACT:

The Attorney General has exempted this system from subsections (c)(3) and (4); (d)(1), (2), (3) and (4); (e)(1), (2), (3), (5) and (8); and (g) of the Privacy Act pursuant to 5 U.S.C. 552a(j) and (k). Rules have been promulgated in accordance with the requirements of 5 U.S.C. 553(b), (c) and (e) and have been published in the Federal Register. These exemptions apply only to the extent that information in a record pertaining to a particular individual is classified to protect the national security, or relates to official investigations and law enforcement matters. A determination as to exemption shall be made at the time a request for access or amendment is received.

[FR Doc. 01-13860 Filed 6-1-01; 8:45 am]

BILLING CODE 4410-FB-M